DEPARTMENT OF HEALTH AND HUMAN SERVICES

National Institutes of Health

Center for Scientific Review; Amended Notice of Meeting

Notice is hereby given of a change in the meeting of the Prokaryotic Cell and Molecular Biology Study Section, November 3, 2021, 10:00 a.m. to November 4, 2021, 7:00 p.m., National Institutes of Health, Rockledge II, 6701 Rockledge Drive, Bethesda, MD, 20892 which was published in the Federal Register on October 4, 2021, FRN Doc #2021-21459, V-86—Page 54703.

This notice is being amended to change the meeting date from November 3-4, 2021 to November 3, 2021. The meeting time and place remains the same. The meeting is closed to the public.

Dated: October 18, 2021.
Melanie J. Pantoja,
Program Analyst, Office of Federal Advisory Committee Policy.

[FR Doc. 2021-22965 Filed 10-20-21; 8:45 am]

BILLING CODE 4140-01-P